DEPARTMENT OF DEFENSE

Department of the Army; Corps of Engineers

Intent To Prepare an Environmental Impact Statement for Nebraska; Department of Roads Nebraska Highway 12 Niobrara East and West Project

AGENCY: Department of the Army, U.S. Army Corps of Engineers, DoD.

ACTION: Notice of intent.

SUMMARY: The U.S. Army Corps of Engineers (Corps) is preparing an Environmental Impact Statement (EIS) to analyze the direct, indirect and cumulative effects of a proposed Nebraska State Highway project, Nebraska Highway 12 Niobrara East and West Project (project), by the Nebraska Department of Roads (NDOR). The project will provide a safe regional transportation corridor that meets Nebraska State Highway design standards. The project is needed due to interrupted use, high maintenance, roadway stability issues, driver safety during high water events, and the importance of maintaining Nebraska Highway 12 as a regional transportation corridor. Alternatives under consideration include: (1) Taking no action; (2) re-construction on existing alignment; (3) providing a new two-lane highway on new alignment; (4) reducing or eliminating existing flooding through evaluation of methods to reduce Lewis and Clark Lake elevation through operations and/or maintenance. NDOR and Corps have not selected a project alternative but will be exploring a range of alternatives through the National Environmental Policy Act (NEPA) process. Additional alternatives will be considered during the NEPA process. Construction of the project is expected to result in temporary and permanent impacts to jurisdictional waters of the United States, thereby requiring a Clean Water Act section 404 permit.

The Corps has prepared a scoping document to familiarize other agencies, the public and interested organizations with the preliminary project alternatives and potential environmental issues that may be involved. The scoping document includes a description of the problems that create the need for the project, a preliminary list of project alternatives, and various environmental/resource issues that will be addressed in the EIS. Copies of the scoping document will be available at the public scoping meeting or can be requested by mail. The EIS will be prepared according to the Corps' procedures for implementing the National Environmental Policy Act (NEPA) of 1969, as amended, 42 U.S.C. 4332(2)(c), and consistent with the Corps' policy to facilitate public understanding and review of agency proposals.

DATES: A public scoping meeting will be held on August 28, 2008, from 6 p.m. to 8:30 p.m.

ADDRESSES: The public scoping meeting will be held at the WFLA Conference Center located on Spruce and Park Avenue in, Niobrara, NE 68760.

FOR FURTHER INFORMATION CONTACT: Questions regarding the proposed action and EIS should be addressed to Matt Wray, Project Manager, U.S. Army Corps of Engineers, Nebraska Regulatory Office, Wehrspann Field Office, 8901 S. 154th Street, Omaha, NE 68138-3621 or at (402) 896-0896; Matt.T.Wray@usace.army.mil.

SUPPLEMENTARY INFORMATION: The Nebraska Department Roads (NDOR) is responsible for providing a safe, efficient, affordable, environmentally compatible and coordinated statewide transportation system for the movement of people and goods. NDOR has identified two segments of Nebraska Highway 12 that have experienced flooding and damage due to high water levels associated with the Missouri River. Segment 1 is approximately 6.4 miles long and extends from just east of Verdel on the west end to 2 miles west of the bridge over the Niobrara River. Segment 2 is approximately 6 miles long and extends from just east of Spruce Avenue in Niobrara to approximately 1 mile east of S-54D. Problems associated with this portion of Nebraska Highway 12 include high maintenance, driver safety, and disruption in use. The following summarizes the issues that create these problems:

Roadway Stability: Due to high water levels and overtopping of Nebraska Highway 12 in the project area, the stability of the roadway is threatened. Gavin's Point Dam on the Missouri River was built in the 1950's near Yankton, South Dakota, creating Lewis and Clark Lake (lake). The lake has caused the water table adjacent to the Missouri River to rise. Nebraska Highway 12, which runs parallel to the Missouri River, is affected where it crosses into the Missouri River floodplain east and west of Niobrara, Nebraska. About eight miles of Nebraska Highway 12 runs through the floodplain. About half of this length is located to the east and half to the west of Niobrara, in Knox County, Nebraska. The distance between Nebraska Highway 12 and the Missouri River bank differs, but some areas are as close as two to three thousand feet. Due to the location of Nebraska Highway 12, the following road related issues are present:

(1) Roadway inundation: When high water events occur on the Missouri River, portions of Nebraska Highway 12 are under water. This jeopardizes the integrity of the roadway due to saturation of the roadway bed. This can create roadway sloughing and potential for failure. Bazile Creek enters the river east of Niobrara, NE where it intersects Nebraska Highway 12. During high water events on Bazile Creek, Nebraska Highway 12 becomes flooded. The flooding has occurred numerous times in the past.

(2) Roadway saturation: High water levels adjacent to Nebraska Highway 12 are the result of the lake. The lake is a man-made reservoir located behind Gavin's Point dam. The lake has contributed to the rising water table throughout the floodplain where Nebraska Highway 12 is located. In addition, system releases from upstream reservoirs as part of the Missouri River mainstem system, can provide constant water levels. Additionally, large releases of water can sometimes last for many months causing roadway saturation. The increased silt load coming into the lake from the Missouri River tributaries, primarily the Niobrara River and Bazile Creek also contributes to roadway saturation. The confluence of the Niobrara River and the Missouri River is just west of the town of Niobrara. The water from these tributaries slows as they enter the Missouri River and sediment is deposited creating a fill area that restricts the channel and raises the bed of the river. This causes the area of the lake to increase in dimension as well as raising the water table. High water levels create conditions of long-term saturation of the roadway embankment, thus creating the potential for roadway embankment erosion.

Driver Safety: Portion of Nebraska Highway 12 are exposed to regular flooding. Roadway flooding is a concern for driver safety because even if the road is marked closed, motorists may choose to drive through flooded roadways. Nebraska Highway 12 in this location does not have lighting and the inherent dangers of driving through flooded roadways exist. In 1995, the Corps implemented an interim fix by raising the gradeline of Nebraska Highway 12 by several feet on two short highway segments to alleviate the immediate flooding problems. The resultant roadway is narrow with shoulders that are not adequate in width, and steep foreslopes. Cable guardrail was installed to help protect vehicles from running off the road and into the water. Due to the narrow roadway, the cable guardrail is close to the edge of the driving lane.

A public scoping meeting will be held (see DATES) to describe why the project is needed, preliminary alternatives, the NEPA compliance process and to solicit input on the issues and alternatives to be evaluated and other related matters. Written comments will also be requested. The Corps has invited the U.S. Environmental Protection Agency, National Park Service, U.S. Fish and Wildlife Service, and Knox County to be cooperating agencies in the formulation of the EIS.

John L. Moeschen,
Nebraska State Program Manager, Regulatory Branch.

[FR Doc. E8-17077 Filed 7-24-08; 8:45 am]

BILLING CODE 3710-62-P